DEPARTMENT OF LABOR

Employment and Training Administration

[TA-W-64,401]

Qimonda 200 MM Facility, Including On-Site Leased Workers From Tokyo Electron America, Nikon Precision, Inc. and Air Products and Chemicals, Inc., and Qimonda North America Corporation, Qimonda Richmond, a Subsidiary of Qimonda AG, Sandston, VA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 11, 2008, applicable to workers of Qimonda 200 MM Facility, Sandston, Virginia. The notice was published in the Federal Register on December 30, 2008 (73 FR 79914). The certification was amended on February 10, 2009 and March 3, 2009 to include on-site leased workers of Tokyo Electron America, Nikon Precision and Ebara Technologies. These notices were published in the Federal Register on February 23, 2009 (74 FR 8111) and March 11, 2009 (74 FR 10619) respectfully.

At the request of the subject firm, the Department reviewed the certification for workers of the subject firm. The workers are engaged in the production of DRAM semiconductor wafers.

The company reports that worker separations occurred at Qimonda North America Corporation, Qimonda Richmond, a subsidiary of Qimonda AG, and are on-site with the Qimonda 200 MM Facility. Workers of the Qimonda 200 MM Facility and workers of Qimonda North America Corporation are not separately identifiable by product line (DRAM semiconductor wafers).

New Information also shows that workers leased from Air Products and Chemicals, Inc. were employed on-site at the Sandston, Virginia location of Qimonda 200 MM Facility. The Department has determined that these workers were sufficiently under the control of the subject form to be considered leased workers.

Based on these findings, the Department is amending this certification to include all on-site workers of Qimonda North America Corporation, Qimonda Richmond, a subsidiary of Qimonda AG and to include leased workers from Air Products and Chemicals, Inc. working on-site at the Sandston, Virginia location of the subject firm.

The amended notice applicable to TA-W-64,401 is hereby issued as follows:

All workers of Qimonda 200 MM Facility, including on-site leased workers from Tokyo Electron America, Nikon Precision, Inc., and Air Products and Chemicals, Inc., Sandston, Virginia, and including on-site workers of Qimonda North America Corporation, Qimonda Richmond, a subsidiary of Qimonda AG, Sandston, Virginia who became totally or partially separated from employment on or after November 11, 2007 through December 11, 2010, are eligible to apply for adjustment assistance under Section 223 of the Trade Act of 1974, and are also eligible to apply for alternative trade adjustment assistance under Section 246 of the Trade Act of 1974.

Signed at Washington, DC, this 31st day of March 2009.
Elliott S. Kushner,
Certifying Officer, Division of Trade Adjustment Assistance.

[FR Doc. E9-7798 Filed 4-6-09; 8:45 am]

BILLING CODE 4510-FN-P